DEPARTMENT OF ENERGY

Energy Information Administration

Agency Information Collection Extension

AGENCY: U.S. Energy Information Administration (EIA), U.S. Department of Energy (DOE).

ACTION: Notice and request for OMB review and comment.

SUMMARY: EIA submitted an information collection request for extension as required by the Paperwork Reduction Act of 1995. The information collection requests a three-year extension of the Natural Gas Data Collection Program, OMB Control Number 1905-0175. The surveys covered by this request include; Form EIA-176 Annual Report of Natural and Supplemental Gas Supply and Disposition; Form EIA-191 Monthly Underground Natural Gas Storage Report; Form EIA-191L Monthly Liquefied Natural Gas Storage Report; Form EIA-757 Natural Gas Processing Plant Survey; Form EIA-857 Monthly Report of Natural Gas Purchases and Deliveries to Consumers; Form EIA-910 Monthly Natural Gas Marketer Survey; and Form EIA-912 Weekly Natural Gas Storage Report. The Natural Gas Data Collection Program provides information on natural gas production, underground storage, supply, processing, transmission, distribution, and consumption by sector within the United States.

DATES: Comments on this information collection must be received no later than January 7, 2021. Written comments and recommendations for the information collection should be sent within 30 days of publication of this notice to https://www.reginfo.gov/public/do/PRAMain. Find this particular information collection by selecting “Currently under 30-day Review—Open for Public Comments” or by using the search function.

FOR FURTHER INFORMATION CONTACT: Michael Kopalek, U.S. Energy Information Administration, telephone (202) 586-4001, or by email at michael.kopalek@eia.gov. The forms and instructions are available on EIA's website at www.eia.gov/survey/.

SUPPLEMENTARY INFORMATION: This information collection request contains

(1) OMB No.: 1905-0175;

(2) Information Collection Request Title: Natural Gas Data Collection Program;

(3) Type of Request: Three-year extension with changes;

(4) Purpose: The surveys included in the Natural Gas Data Collection Program collect information on natural gas underground storage, supply, processing, transmission, distribution, consumption by sector, and consumer prices. The data collected supports public policy analyses and produce estimates of the natural gas industry. The statistics generated from these surveys are published on EIA's website, http://www.eia.gov, and are used in various EIA information products, including the Weekly Natural Gas Storage Report (WNGSR), Natural Gas Monthly (NGM), Natural Gas Annual (NGA), Monthly Energy Review (MER), Short-Term Energy Outlook (STEO), Annual Energy Outlook (AEO), and Annual Energy Review (AER).

(4a) Changes to Information Collection:

Form EIA-176 Annual Report of Natural and Supplemental Gas Supply and Disposition

Form EIA-176 collects data on natural, synthetic, and other supplemental gas supplies, their disposition, and certain revenues by state. EIA is modifying the survey instructions to include Renewable Natural Gas (RNG) producers who inject high-Btu RNG into an interstate pipeline, intra-state pipeline, or natural gas distribution company system. This excludes on-site and local pipelines that deliver to a nearby end-user, such as to a CNG fueling station or power plant. EIA is adding this type of RNG producer because these facilities produce the equivalent of pipeline-quality natural gas that is not captured elsewhere in EIA's production statistics.

Form EIA-191 Monthly Underground Natural Gas Storage Report

Form EIA-191 collects data on the operations of all active underground storage facilities. The name of the survey is changing from Monthly Underground Gas Storage Report to Monthly Underground Natural Gas Storage Report.

Form EIA-191L Monthly Liquefied Natural Gas Storage Report

EIA is adding a new survey, Form EIA-191L Monthly Liquefied Natural Gas Storage Report to collect natural gas inventory storage data from approximately 85 operators of Liquefied Natural Gas (LNG) facilities. These facilities include LNG peakshavers and satellite LNG facilities. EIA is specifically excluding marine terminals (due to their high variability in stock levels), on-site power plant LNG storage tanks, and LNG fueling tanks. Form EIA-191L is a shorter version of Form EIA-191 and will collect the same natural gas data as Form EIA-191 except it will not collect information on base gas, working gas, field type, and facility type.

Form EIA-757 Natural Gas Processing Plant Survey

Form EIA-757 collects information on the capacity, status, and operations of natural gas processing plants, and monitors their constraints to natural gas supplies during catastrophic events, such as hurricanes. Schedule A of Form EIA-757 collects baseline operating and capacity information from all respondents on a triennial basis. Schedule B is used on an emergency standby basis and is activated during natural disasters or other energy disruptive events. Schedule B collects data from a sample of respondents in the affected areas. There are no changes to Form EIA-757.

Form EIA-857 Monthly Report of Natural Gas Purchases and Deliveries to Consumers

Form EIA-857 collects data on the quantity and cost of natural gas delivered to distribution systems and the quantity and revenue of natural gas delivered to consumers by end-use sector, on a monthly basis by state. There are no changes to this survey.

Form EIA-910 Monthly Natural Gas Marketer

Form EIA-910 collects information on natural gas sales from marketers in selected states that have active consumer choice programs. EIA is increasing the number of respondents to this survey due to the increased number of natural gas market participants.

Form EIA-912 Weekly Underground Natural Gas Storage Report

Form EIA-912 collects information on weekly inventories of natural gas in underground storage facilities. EIA is increasing the requested burden by 5 additional respondents to accommodate future changes in required reporting sample sizes.

(5) Annual Estimated Number of Respondents: 3,510.

Form EIA-176 consists of 2,070 respondents;

Form EIA-191 consists of 145 respondents;

Form EIA-191L consists of 85 respondents;

Form EIA-757 Schedule A consists of 600 respondents

Form EIA-757 Schedule B consists of 20 respondents;

Form EIA-857 consists of 330 respondents;

Form EIA-910 consists of 160 respondents;

Form EIA- 912 consists of 100 respondents.

(6) Annual Estimated Number of Total Responses: 16,297.

(7) Annual Estimated Number of Burden Hours: 55,296.

(8) Annual Estimated Reporting and Recordkeeping Cost Burden: $4,431,421 (55,296 burden hours times $80.14 per hour). EIA estimates that respondents will have no additional costs associated with the survey other than the burden hours and the maintenance of the information as part of the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on December 2, 2020.
Samson A. Adeshiyan,
Office Director, Office of Statistical Methods & Research, U.S. Energy Information Administration.

[FR Doc. 2020-26884 Filed 12-7-20; 8:45 am]

BILLING CODE 6450-01-P